DEPARTMENT OF HOMELAND SECURITY

Federal Emergency Management Agency

44 CFR Part 67

[Docket ID FEMA-2010-0003; Internal Agency Docket No. FEMA-B-1066]

Proposed Flood Elevation Determinations

AGENCY: Federal Emergency Management Agency, DHS.

ACTION: Proposed rule; correction.

SUMMARY: FEMA is correcting a table for Carroll County, Arkansas, and Incorporated Areas.

FOR FURTHER INFORMATION CONTACT: Kevin C. Long, Acting Chief, Engineering Management Branch, Mitigation Directorate, Federal Emergency Management Agency, 500 C Street, SW., Washington, DC 20472, (202) 646-2820 or (e-mail) kevin.long@dhs.gov.

SUPPLEMENTARY INFORMATION: The Federal Emergency Management Agency (FEMA) proposes determinations of Base (1% annual-chance) Flood Elevations (BFEs) and modified BFEs for communities participating in the National Flood Insurance Program (NFIP), in accordance with section 110 of the Flood Disaster Protection Act of 1973, 42 U.S.C. 4104, and 44 CFR 67.4(a). These proposed BFEs and modified BFEs, together with the floodplain management criteria required by 44 CFR 60.3, are minimum requirements. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Correction

FEMA is correcting a table in a proposed rule which published on September 8, 2009, at 74 FR 46047. The table for Carroll County, Arkansas, and Incorporated Areas contained incorrect information for the flooding source “Leatherwood Creek.”

The September 8, 2009, proposed rule contained a table entitled “Carroll County, Arkansas, and Incorporated Areas,” which contained errors. For flooding source “Leatherwood Creek,” the table contained inaccurate information as to the communities affected. FEMA is now publishing a revised table for Carroll County, Arkansas, and Incorporated Areas, containing the accurate information, to address these prior errors. The information provided in the table below should be used in lieu of the table published on September 8, 2009.

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Carroll County, Arkansas, and Incorporated Areas
Leatherwood Creek | Approximately 0.61 miles upstream of Magnetic Road | None | +1,109 | City of Eureka Springs, Unincorporated Areas of Carroll County.
| Approximately 1,250 feet upstream of Magnetic Road | None | +1,131
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Eureka Springs
Maps are available for inspection at City Hall, 44 South Main Street, Eureka Springs, AR 72632.
Unincorporated Areas of Carroll County
Maps are available for inspection at the County Courthouse, 210 West Church Street, Berryville, AR 72616.

(Catalog of Federal Domestic Assistance No. 97.022, “Flood Insurance.”)

Sandra K. Knight,
Deputy Assistant Administrator for Mitigation, Department of Homeland Security Federal Emergency Management Agency.

[FR Doc. 2010-2490 Filed 2-4-10; 8:45 am]

BILLING CODE 9110-12-P